DEPARTMENT OF TRANSPORTATION

Federal Railroad Administration

Application for Approval of Discontinuance or Modification of a Railroad Signal System or Relief From the Requirements of Title 49 Code of Federal Regulations Part 236

Pursuant to Title 49 Code of Federal Regulations (CFR) Part 235 and 49 U.S.C. 20502(a), the following railroads have petitioned the Federal Railroad Administration (FRA) seeking approval for the discontinuance or modification of the signal system or relief from the requirements of 49 CFR Part 236 as detailed below.

Docket No. FRA-2000-6812.

Applicant: Union Pacific Railroad Company, Mr. Phil Abaray, Chief Engineer—Signals, 1416 Dodge Street, Room 1000, Omaha, Nebraska 68179-1000.

The Union Pacific Railroad Company (UP) seeks relief from the requirements of the Rules, Standard and Instructions, 49 CFR, Part 236, § 236.110, to the extent that each test record, need not be signed by the person making the test, in lieu of implementing an electronic record system (“STARS”) to record and maintain signal records of tests. The “STARS” electronic record system will provide integrity and several levels of security to uniquely identify a person as the author of a specific record, and once the test record is entered, verified, and saved it cannot be modified. Initially, “STARS” will not be inclusive of all Part 236 records of tests, and future development may result in the addition of subsequent test records. This petition is associated with UP's request to utilize the “STARS” electronic record system for recording and maintaining applicable inspection and test records as defined in 49 CFR, Part 234, subject to approval by the Associate Administrator for Safety, as required by Section 234.273.

Applicant's justification for relief: To provide more flexibility for Federal and State Inspectors who are required to check and inspect records of tests over the UP system.

Any interested party desiring to protest the granting of an application shall set forth specifically the grounds upon which the protest is made, and contain a concise statement of the interest of the Protestant in the proceeding. Additionally, one copy of the protest shall be furnished to the applicant at the address listed above.

All communications concerning this proceeding should be identified by the docket number and must be submitted to the Docket Clerk, DOT Central Docket Management Facility, Room PI-401, Washington, D.C. 20590-0001. Communications received within 45 days of the date of this notice will be considered by the FRA before final action is taken. Comments received after that date will be considered as far as practicable. All written communications concerning these proceedings are available for examination during regular business hours (9:00 a.m.-5:00 p.m.) at DOT Central Docket Management Facility, Room PI-401 (Plaza Level), 400 Seventh Street, S.W., Washington, D.C. 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, D.C. on March 8, 2000.
Grady C. Cothen, Jr.,
Deputy Associate Administrator for Safety Standards and Program Development.

[FR Doc. 00-6075 Filed 3-10-00; 8:45 am]

BILLING CODE 4910-06-P